DEPARTMENT OF COMMERCE

National Oceanic and Atmospheric Administration

[030602141-7049-48]

California Bay Watershed Education and Training (B-WET) Program, Adult and Community Watershed Education in the Monterey Bay

AGENCY: National Oceanic and Atmospheric Administration (NOAA), Department of Commerce.

ACTION: Notice; cancellation of solicitation.

SUMMARY: The National Marine Sanctuary Program (NMSP) cancels the competitive California B-WET Program, Adult and Community Watershed Education in the Monterey Bay, for fiscal year 2007 due to insufficient funding.

FOR FURTHER INFORMATION CONTACT: Seaberry Nachbar, National Marine Sanctuary Program, 299 Foam Street, Monterey, CA 93940, or by phone at (831) 647-4204.

SUPPLEMENTARY INFORMATION: The B-WET Program solicitation was originally included in the NOAA Omnibus Notice, Availability of Grant Funds for Fiscal Year 2007, published in the Federal Register on December 27, 2006. Due to insufficient funding, NMSP cancels the competitive grant program announced in that solicitation. NMSP will return to the applicants all applications NMSP received in response to the solicitation.

The B-WET Program is listed in the Catalog of Federal Domestic Assistance (CFDA) under Grant Program 11.429, California Bay Watershed Education and Training Program.

Dated: March 1, 2007.
Daniel Basta,
Director, National Marine Sanctuary Program.

[FR Doc. 07-1155 Filed 3-9-07; 8:45 am]

BILLING CODE 3510-NK-M